DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than January 2, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: The Health Professions Student Loan (HPSL) and Nursing Student Loan (NSL) Programs: Deferment-HRSA Form 519 and AOR-HRSA Form 501, OMB No. 0915-0044-Extension

Abstract: The HPSL Program, as authorized by Public Health Service (PHS) Act sections 721-722, and 725-735, provides long-term, low-interest loans to students attending schools of medicine, osteopathic medicine, dentistry, veterinary medicine, optometry, podiatric medicine, and pharmacy. The NSL program as authorized by PHS Act sections 835-842, provides long-term, low-interest loans to students who attend eligible schools of nursing in programs leading to a diploma in nursing, including an associate degree, a baccalaureate degree, or graduate degree in nursing.

Need and Proposed Use of the Information: Participating HPSL and NSL schools are responsible for determining eligibility of applicants, making loans, and collecting monies owed by borrowers on their outstanding loans. The Deferment Form (Deferment-HRSA Form 519) provides the schools with documentation of a borrower's deferment status, as detailed for the HPSL program under 42 CFR 57.210 and for NSL under 42 CFR 57.310. The Annual Operating Report (AOR-HRSA Form 501) provides the U.S. Department of Health and Human Services with information from participating schools (including schools that are no longer disbursing loans but are required to report and maintain program records, student records, and repayment records until all student loans are repaid in full and all monies due to the federal government are returned) relating to HPSL and NSL program operations and financial activities.

Likely Respondents: Financial Aid Directors working at institutions participating in the HPSL and NSL Programs.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form No. | Number of respondents | Respnses per respondent | Total annual response | Hours per response | Total burden hours
Deferment HRSA-519 | 4,900 | 1 | 4,900 | 0.435 | 2,132
AOR HRSA-501 | 784 | 1 | 784 | 21.000 | 16,464
Total Burden | 5,684 |  | 5,684 |  | 18,596

Jackie Painter,
Acting Director, Division of Policy and Information Coordination.

[FR Doc. 2014-28345 Filed 12-1-14; 8:45 am]

BILLING CODE 4165-15-P